DEPARTMENT OF ENERGY

Federal Energy Regulatory Commission

[Docket No. EL07-98-000]

Duquesne Light Company, Complainant v. PJM Interconnection, LLC., Respondent; Notice of Complaint

September 14, 2007.

Take notice that on September 13, 2007, pursuant to sections 206 and 212 of the Commission's Rules and Practice and Procedure, 18 CFR 385.206 and 385.212 and section 205 of the Federal Power Act, 16 U.S.C. 824(e), Duquesne Light Company (Complainant) filed a formal complaint against PJM Interconnection, LLC. (Respondent) alleging that the Respondent should be ordered to exclude load in the Duquesne Zone from upcoming Base Residual Auctions that will establish future Delivery Year capacity obligations under the Respondent's Reliability Pricing Model after the date of the Complainant's proposed withdrawal from PJM.

The Complainant has requested a shortened answer period.

The Complainant states that a copy of the complaint has been served on the Respondent and all of the Respondent's transmission owners, load-serving entities in the Duquesne Zone, generators located in the Duquesne Zone, and on the Pennsylvania Public Utility Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 21, 2007.

Kimberly D. Bose,
Secretary.

Docket No. EL07-98-000 2

[FR Doc. E7-18665 Filed 9-20-07; 8:45 am]

BILLING CODE 6717-01-P